DEPARTMENT OF ENERGY

Federal Energy Regulatory Commission

[Project No. 15019-000]

Paddy Hill Holdings, LLC; Notice of Preliminary Permit Application Accepted for Filing and Soliciting Comments, Motions To Intervene, and Competing Applications

March 11, 2020.

On December 13, 2019, Paddy Hill Holdings, LLC, filed an application for a preliminary permit, pursuant to section 4(f) of the Federal Power Act (FPA), proposing to study the feasibility of the Brownville Hydroelectric Project to be located on the Black River in Jefferson County, New York. The sole purpose of a preliminary permit, if issued, is to grant the permit holder priority to file a license application during the permit term. A preliminary permit does not authorize the permit holder to perform any land-disturbing activities or otherwise enter upon lands or waters owned by others without the owners' express permission.

The proposed project would consist of the following: (1) A new impoundment with a surface area of 19 acres and a storage capacity of 500 acre-feet at a normal pool level of 284 feet mean sea level; (2) a new 178-foot-long, 22-foot-high concrete gravity dam with an ogee-crest spillway and 2 feet of adjustable crest gates or flashboards; (3) a new 10-foot-long, 8-foot-wide fishway; (4) two turbine-generator units with a total rated capacity of 9 megawatts; (5) a new 90-foot-long, 60-foot-wide, 45-foot-high powerhouse; (6) a new 70-foot-wide tailrace with a new 700-foot-long training wall; (7) a new 200-foot-long, 4.16-kilovolt underground transmission line connecting the new generating units to an existing National Grid substation; and (8) appurtenant facilities. The proposed project would have an annual generation of 43,000 megawatt-hours.

Applicant Contact: Stuart Brown, Paddy Hill Holdings, LLC, 800 Starbuck Avenue, Watertown, NY 13601; phone: 315-681-6381.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15019-000.

More information about this project, including a copy of the application, can be viewed or printed on the “eLibrary” link of the Commission's website at http://www.ferc.gov/docs-filing/elibrary.asp. Enter the docket number (P-15019) in the docket number field to access the document. For assistance, contact FERC Online Support.

Kimberly D. Bose,
Secretary.

[FR Doc. 2020-05463 Filed 3-16-20; 8:45 am]

BILLING CODE 6717-01-P